DEPARTMENT OF AGRICULTURE

Natural Resources Conservation Service

[Docket No. NRCS-2024-0012]

Proposed Revisions to the National Handbook of Conservation Practices for the Natural Resources Conservation Service

AGENCY: Natural Resources Conservation Service, U.S. Department of Agriculture.

ACTION: Notice of availability, request for comments.

SUMMARY: The Natural Resources Conservation Service (NRCS) is revising specific conservation practice standards (CPS) in the National Handbook of Conservation Practices (NHCP). NRCS is also giving the public an opportunity to provide comments on the proposed changes to the specific CPS.

DATES: We will consider comments that we receive by October 24, 2024.

ADDRESSES: We invite you to submit comments in response to this notice. You may submit your comments through one of the following methods below:

• Federal eRulemaking Portal: Go to http://www.regulations.gov and search for Docket ID NRCS-2024-0012. Follow the online instructions for submitting comments; or

• Mail or Hand Delivery: Mr. J'Que C. Jones, National Environmental Engineer, Conservation Engineering Division, NRCS, USDA, 1400 Independence Avenue, South Building, Room 4636, Washington, DC 20250. In your comment, please specify the Docket ID NRCS-2024-0012.

All comments received will be made publicly available on http://www.regulations.gov.

The copies of the proposed revised standards are available through http://www.regulations.gov by accessing Docket No. NRCS-2024-0012. Alternatively, the proposed revised standards can be downloaded or printed from the https://www.nrcs.usda.gov/getting-assistance/conservation-practices.

FOR FURTHER INFORMATION CONTACT: Mr. J'Que C. Jones at (443) 926-6957, or by email at jque.jones@usda.gov. Individuals who require alternative means for communication should contact the USDA TARGET Center at (202) 720-2600 (voice and text telephone (TTY)) or dial 711 for Telecommunications Relay service (both voice and text telephone users can initiate this call from any telephone).

SUPPLEMENTARY INFORMATION:

Background

NRCS plans to revise the CPS in the NHCP. This notice provides an overview of the planned changes and gives the public an opportunity to offer comments on the specific CPS and NRCS's proposed changes.

NRCS State Conservationists who choose to adopt these practices in their States will incorporate these practices into the respective electronic Field Office Technical Guide. These practices may be used in conservation systems that treat highly erodible land (HEL) or on land determined to be wetland. Section 343 of the Federal Agriculture Improvement and Reform Act of 1996 (Pub. L. 104-127) requires NRCS to make available for public review and comment all proposed revisions to CPS used to carry out HEL and wetland provisions of the law.

Revisions to the National Handbook of Conservation Practices

The amount of the proposed changes varies considerably for each of the CPS addressed in this notice. To fully understand the proposed changes, individuals are encouraged to compare these changes with the current version for each standard, which can be found at: https://www.nrcs.usda.gov/resources/guides-and-instructions/conservation-practice-standards.

NRCS is requesting comments on the following CPS:

• Controlling Existing Flowing Well (Code 352);

• Irrigation Water Management (Code 449);

• Phosphorous Removal System (Code 624);

• Saturated Buffer (Code 604); and

• Wetland Creation (Code 658).

The following paragraphs highlight some of the proposed changes to each standard:

Controlling Existing Flowing Well (Code 352): This is a new CPS that was added to address flowing artesian wells that deplete the aquifer. Flowing wells can also cause ponding, erosion, and ice damage and can waste freshwater resources.

Irrigation Water Management (Code 449): Revised the “Purpose” section to add that the CPS will provide data needed to manage efficient use of irrigation water to promote optimal use of available irrigation water supplies. Additional methods for determining the timing of irrigation, was added to the “General Criteria” section. Added criteria to the standard for “Closed Conduit and Open Channel Irrigation Flow Measurement.” Minor revisions were made for clarity and readability purposes.

Phosphorous Removal System (Code 624): This is a new national standard for a system to remove dissolved phosphorus from surface runoff, subsurface drain, or ditch flows using a phosphorus sorption media within a containment structure. NRCS developed this new national standard in collaboration with Dr. Chad Penn of the USDA Agricultural Research Service.

Saturated Buffer (Code 604): Revised to add text to the “Definition” section to include the nitrate removal feature of the technology. Revised the “General Criteria Applicable to All Purposes” section to allow nitrate removal optimization in vegetated buffer zone sizing and design flow capacity. And added text to clarify the factors that contribute to the probability of bank failure.

Wetland Creation (Code 658): Revised to narrow the practice standard to the creation of wetland hydrology, assuring consistency with the revised CPS on Wetland Restoration (Code 657). In the “Criteria and Considerations” section, the definition was updated and greater clarity was provided and references and corresponding links were updated.

USDA Non-Discrimination Policy

In accordance with Federal civil rights law and U.S. Department of Agriculture (USDA) civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (e.g., braille, large print, audiotape, American Sign Language, etc.) should contact the responsible agency or USDA TARGET Center at (202) 720-2600 (voice and text telephone (TTY)) or dial 711 for Telecommunications Relay Service (both voice and telephone users can initiate this call from any phone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or email: OAC@usda.gov.

USDA is an equal opportunity provider, employer, and lender.

Noller Herbert,
Acting Associate Chief, Natural Resources Conservation Service.

[FR Doc. 2024-21817 Filed 9-23-24; 8:45 am]

BILLING CODE 3410-16-P